DEPARTMENT OF THE INTERIOR

National Park Service

The Transportation Plan/ Draft Environmental Impact Statement, Grand Teton National Park, WY

AGENCY: National Park Service, Department of the Interior.

ACTION: This notice informs the public that the comment period for the Draft Environmental Impact Statement for the Transportation Plan, Grand Teton National Park, Wyoming, is extended.

SUMMARY: The National Park Service published a Notice of Availability on June 6, 2005 (70 FR 107) for the draft Environmental Impact Statement for the Transportation Plan, Grand Teton National Park, Wyoming. The public comment period was to expire on August 1, 2005. This notice extends the public comment period until August 25, 2005.

DATES: Comments on the DEIS must be received by August 25, 2005.

ADDRESSES: Information will be available for public review and comment at the Park Headquarters Visitor Center in Moose, Wyoming and the Reference Desk of the Teton County Library in Jackson, Wyoming. It will also be available online at both http://parkplanning.nps.gov and http://www.nps.gov/grte/plans/planning.htm.

FOR FURTHER INFORMATION CONTACT: Mary Gibson Scott, Superintendent, Grand Teton National Park, PO Drawer 170, Moose, Wyoming, 83012-0170, (370) 739-3410.

SUPPLEMENTARY INFORMATION: If you wish to comment, you may submit your comments by any one of several methods. You may mail comments to Superintendent Office, P.O. Drawer 170, Moose, Wyoming 83012-0170, Attention: Transportation Plan. You may also comment via the e-mail to http://parkplanning.nps.gov, choose “Grand Teton National Park” or “Plan/Documents Open for Comment” and then click “Comment on Document”. Finally, you may hand-deliver comments to the Grand Teton Visitor Center, Moose, Wyoming. Our practice is to make comments, including names and home addresses of respondents, available for public review during business hours. Individual respondents may request that we withhold their home address from the record, which we will honor to the extent allowable by law. There also may be circumstances in which we would withhold from the record a respondent's identity, as allowable by law. If you wish us to withhold your name and/or address, you must state this prominently at the beginning of your comment. We will make all submissions from organizations or businesses, and from individuals identifying themselves as representatives or officials of organizations or businesses, available for public inspection in their entirety.

Dated: July 26, 2005.
Kate Cannon,
Acting Deputy Regional Director, Intermountain Region, National Park Service.

[FR Doc. 05-16874 Filed 8-24-05; 8:45 am]

BILLING CODE 4312-52-P